DEPARTMENT OF THE INTERIOR

National Park Service

[NPS-WASO-NAGPRA-NPS0038477; PPWOCRADN0-PCU00RP14.R50000]

Notice of Inventory Completion: New York State Museum, Albany, NY

AGENCY: National Park Service, Interior.

ACTION: Notice.

SUMMARY: In accordance with the Native American Graves Protection and Repatriation Act (NAGPRA), the New York State Museum (NYSM) has completed an inventory of human remains and associated funerary objects and has determined that there is a cultural affiliation between the human remains and associated funerary objects and Indian Tribes or Native Hawaiian organizations in this notice.

DATES: Repatriation of the human remains and associated funerary objects in this notice may occur on or after September 12, 2024.

ADDRESSES: Lisa Anderson, New York State Museum, 3049 Cultural Education Center, Albany, NY 12230, telephone (518) 486-2020, email lisa.anderson@nysed.gov.

SUPPLEMENTARY INFORMATION: This notice is published as part of the National Park Service's administrative responsibilities under NAGPRA. The determinations in this notice are the sole responsibility of the New York State Museum, and additional information on the determinations in this notice, including the results of consultation, can be found in its inventory or related records. The National Park Service is not responsible for the determinations in this notice.

Abstract of Information Available

Human remains representing, at least, three individuals have been identified. The 105 associated funerary objects are 82 pottery fragments, 12 triangular projectile points, one projectile point tip, one utilized flake, one flake, one netsinker, one fragment of animal bone, and six soil samples. The human remains and associated funerary objects were removed from the Roundtop site, Broome County, NY, during field school excavations in 1965 and transferred to the NYSM in 1970.

Human remains representing, at least, one individual have been identified. No associated funerary objects are present. The human remains were removed from the Durfee site, Jefferson County, NY, and donated to the NYSM by Mr. Herbert Bigford.

Human remains representing, at least, one individual have been identified. No associated funerary objects are present. The human remains were removed from the Grindstone Island site, Jefferson County, NY, during excavations conducted in 1959 by Dr. William A. Ritchie of the NYSM.

Human remains representing, at least, two individuals have been identified. No associated funerary objects are present. The human remains were removed from the Morse's site, Jefferson County, NY, and donated to the NYSM by Mr. Robert D. Loveland in 1912 and Mr. Charles P. Oatman in 1913.

Human remains representing, at least, four individuals have been identified. No associated funerary objects are present. The human remains were removed from the Nohle Farm site, Jefferson County, NY, during gravel mining and transferred to the NYSM in 1975 by the Jefferson County Sheriff's Department.

Human remains representing, at least, four individuals have been identified. No associated funerary objects are present. The human remains were removed from the St. Lawrence site, Jefferson County, NY, and acquired by the NYSM from Mr. R.W. Amidon in 1906.

Human remains representing, at least, two individuals have been identified. No associated funerary objects are present. The human remains were removed from the Talcott Hill site, Jefferson County, NY, and acquired by the NYSM from Mr. J.S. Twining in 1897.

Human remains representing, at least, one individual have been identified. No associated funerary objects are present. The human remains were removed from the Kelso site, Onondaga County, NY, during excavations conducted in 1958 by Dr. William A. Ritchie of the NYSM.

Human remains representing, at least one individual have been identified. No associated funerary objects are present. The human remains were removed from the Christopher site, Onondaga County, NY, and acquired by the NYSM from Mr. Otis M. Bigelow in 1914.

Human remains representing, at least, one individual have been identified. No associated funerary objects are present. The human remains were removed from the Pompey site, Onondaga County, NY, and acquired by the NYSM in 1914 from Mr. Otis M. Bigelow.

Human remains representing, at least three individuals have been identified. No associated funerary objects are present. The human remains were removed from Onondaga County, NY, and acquired by the NYSM from Mr. Otis M. Bigelow in 1914.

Human remains representing, at least, four individuals have been identified. No associated funerary objects are present. The human remains were removed from the Robinson site, Onondaga County, during excavations in 1957 by Dr. William A. Ritchie and Mr. Peter Pratt for the NYSM.

Human remains representing, at least, one individual have been identified. The 11 associated funerary objects include one worked deer bone, five ground bear teeth, two deer bone awls, one antler implement, one walrus tusk, and one walrus ivory gouge. The human remains and associated funerary objects were removed from the Plato's Point site, Onondaga County, NY, and acquired by the NYSM in 1899 from Mr. W.G. Hinsdale.

Human remains representing, at least, one individual have been identified. No associated funerary objects are present. The human remains were removed from Baldwin's Island, Onondaga County, NY, and acquired by the NYSM in 1899 from Mr. W.G. Hinsdale.

Human remains representing, at least, one individual have been identified. No associated funerary objects are present. The human remains were removed from possibly the Gates or Weston site in Pompey, Onondaga County, NY, and acquired by the NYSM from Mr. Otis M. Bigelow in 1914.

Human remains representing, at least, one individual have been identified. No associated funerary objects are present. The human remains were removed from the vicinity of the Seneca River, Onondaga County, NY. There is no record of the acquisition by the NYSM.

Human remains representing, at least, two individuals have been identified. No associated funerary objects are present. The human remains were removed from the vicinity of Van Buren, Onondaga County, NY. There is no record of the acquisition by the NYSM.

Human remains representing, at least, one individual have been identified. The 20 associated funerary objects include seven pottery sherds and 13 fragments of animal bone. The human remains and associated funerary objects were removed from the Jayne LaPoint site, Oswego County, NY, during excavations in the 1980s and transferred to the NYSM in 2011.

Human remains representing, at least, five individuals have been identified. The 185 associated funerary objects include 99 chert flakes, two groundstone tools, five pottery sherds, 72 fragments of animal bone, one mineral sample, one charcoal sample, four nails, and one piece of slag. The human remains and associated funerary objects were removed from the Simmons site, Oswego County, NY, during excavations in 1951 by Dr. William A. Ritchie of the NYSM.

Human remains representing, at least, two individuals have been identified. No associated funerary objects are present. The human remains were removed from the Freidrichsen No. 1 site, Tioga County, NY, during excavations conducted by Dr. Robert E. Funk of the NYSM in 1965.

Human remains representing, at least, four individuals have been identified. No associated funerary objects are present. The human remains were removed from the banks of the Susquehanna River near Oswego, Tioga County, NY, in 1964 after they were exposed by erosion and donated to the NYSM by Mr. G.E. Gordner.

Human remains representing, at least, three individuals have been identified. No associated funerary objects are present. The human remains were removed from the Washington Boro site, Lancaster County, PA, during excavations in the 1950s and acquired by the NYSM from Mr. Charles Hozinger.

Cultural Affiliation

Based on the information available and the results of consultation, cultural affiliation is reasonably identified by the geographical location or acquisition history of the human remains and associated funerary objects described in this notice.

Determinations

The New York State Museum has determined that:

• The human remains described in this notice represent the physical remains of 48 individuals of Native American ancestry.

• The 321 objects described in this notice are reasonably believed to have been placed intentionally with or near individual human remains at the time of death or later as part of the death rite or ceremony.

• There is a connection between the human remains and associated funerary objects described in this notice and the Onondaga Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 12, 2024. If competing requests for repatriation are received, the New York State Museum must determine the most appropriate requestor prior to repatriation. Requests for joint repatriation of the human remains and associated funerary objects are considered a single request and not competing requests. The New York State Museum is responsible for sending a copy of this notice to the Indian Tribes and Native Hawaiian organizations identified in this notice.

Authority: Native American Graves Protection and Repatriation Act, 25 U.S.C. 3003, and the implementing regulations, 43 CFR 10.10.

Dated: August 1, 2024.
Melanie O'Brien,
Manager, National NAGPRA Program.

[FR Doc. 2024-17978 Filed 8-12-24; 8:45 am]

BILLING CODE 4312-52-P